DEPARTMENT OF HOUSING AND URBAN DEVELOPMENT

24 CFR Part 214

[Docket No. FR-5339-N-02]

Housing Counseling Program: New Certification Requirements; Extension of Public Comment Period

AGENCY: Office of the Assistant Secretary for Housing—Federal Housing Commissioner, HUD.

ACTION: Proposed rule; extension of public comment period.

SUMMARY: On September 13, 2013, HUD published a rule in the Federal Register inviting public comment on proposed changes to the Housing Counseling Program regulations for the purpose of implementing the Dodd-Frank Wall Street Reform and Consumer Protection Act amendments to the housing counseling statute. This document announces that HUD is extending the public comment period, for an additional 30-day period, to December 12, 2013.

DATES: Comment Due Date: For the proposed rule published on September 13, 2013 (78 FR 56625), the comment due date is extended to December 12, 2013.

ADDRESSES: Interested persons are invited to submit comments responsive to this request for information to the Office of General Counsel, Regulations Division, Department of Housing and Urban Development, 451 7th Street SW., Room 10276, Washington, DC 20410-0001. Communications must refer to the above docket number and title and should contain the information specified in the “Request for Comments” of this notice.

Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by interested members of the public. Commenters should follow instructions provided on that site to submit comments electronically.

Submission of Hard Copy Comments. Comments may be submitted by mail or hand delivery. To ensure that the information is fully considered by all of the reviewers, each commenter submitting hard copy comments, by mail or hand delivery, should submit comments or requests to the address above, addressed to the attention of the Regulations Division. Due to security measures at all federal agencies, submission of comments or requests by mail often result in delayed delivery. To ensure timely receipt of comments, HUD recommends that any comments submitted by mail be submitted at least 2 weeks in advance of the public comment deadline. All hard copy comments received by mail or hand delivery are a part of the public record and will be posted to http://www.regulations.gov without change.

No Facsimile Comments. Facsimile (FAX) comments are not acceptable.

Public Inspection of Comments. All comments submitted to HUD regarding this notice will be available, without charge, for public inspection and copying between 8 a.m. and 5 p.m. weekdays at the above address. Due to security measures at the HUD Headquarters building, an advance appointment to review the documents must be scheduled by calling the Regulations Division at 202-708-3055 (this is not a toll-free number). Copies of all comments submitted will also be available for inspection and downloading at http://www.regulations.gov.

FOR FURTHER INFORMATION CONTACT: Ruth Román, Office of Housing Counseling, Office of Housing, Department of Housing and Urban Development, 451 7th Street SW., Room 9224, Washington, DC 20410-8000; telephone number 202-708-0317 (this is not a toll-free number). Persons with hearing or speech challenges may access this number through TTY by calling the toll-free Federal Relay Service at 800-877-8339.

SUPPLEMENTARY INFORMATION: On September 13, 2013 (78 FR 56625), HUD published a proposed rule in the Federal Register that would implement changes made by the Dodd-Frank Wall Street Reform and Consumer Protection Act (Pub. L. 111-203, 124 Stat. 1376 (July 21, 2010)) (Dodd-Frank Act) to HUD's Housing Counseling Program, established pursuant to section 106 of the Housing and Urban Development Act of 1968 (12 U.S.C. 1701x) (1968 Act). The Dodd-Frank Act amended section 106 of the 1968 Act to improve the effectiveness of HUD's Housing Counseling Program by, among other things: defining certain commonly used terms in the program; ensuring that HUD-approved counselors provide counseling covering the entire process of homeownership, from the purchase of a home to its disposition; requiring that housing counseling agencies provide materials on home inspections, as part of home purchase counseling; ensuring that rental or homeownership counseling provided in connection with HUD programs is administered in accordance with procedures established by HUD; and requiring that all HUD-related homeownership counseling and rental housing counseling, provided in connection with any HUD program, is provided by HUD-certified housing counseling agencies through their HUD-certified housing counselors. Interested readers should refer to the preamble of the September 13, 2013, proposed rule for additional information on the proposed regulatory changes.

In the September 13, 2013 proposed rule, HUD established a comment due date of November 12, 2013. In response to recent requests for additional time to submit public comments and given the application of the rule to both housing counseling agencies and individual counselors, HUD believes an extension of the deadline would provide the time needed for housing counseling agencies to disseminate the information to affected housing counselors and time for housing counselors to provide comments. Therefore, HUD is announcing through this notice an extended public comment period, for an additional 30-day period, to December 12, 2013.

Dated: October 31, 2013.
Sarah S. Gerecke,
Deputy Assistant Secretary for Housing Counseling.

[FR Doc. 2013-26586 Filed 11-5-13; 8:45 am]

BILLING CODE 4210-67-P